ENVIRONMENTAL PROTECTION AGENCY

[FRL OP-OFA-136]

Environmental Impact Statements; Notice of Availability

Responsible Agency: Office of Federal Activities, General Information 202-564-5632 or https://www.epa.gov/nepa.

Weekly receipt of Environmental Impact Statements (EIS)

Filed July 15, 2024 10 a.m. EST Through July 22, 2024 10 a.m. EST

Pursuant to 40 CFR 1506.9

Notice

Section 309(a) of the Clean Air Act requires that EPA make public its comments on EISs issued by other Federal agencies. EPA's comment letters on EISs are available at: https://cdxapps.epa.gov/cdx-enepa-II/public/action/eis/search.

EIS No. 20240129, Final, BLM, NV, Libra Solar, Review Period Ends: 08/26/2024, Contact: Melanie Hornsby 775-885-6024

EIS No. 20240130, Draft, BLM, NV, Esmeralda 7 Solar Project Draft Programmatic Environmental Impact Statement and Resource Management Plan Amendment, Comment Period Ends: 10/24/2024, Contact: Scott Distel 775-635-4000

EIS No. 20240131, Draft, BR, CA, Long-Term Operations of the Central Valley Project and State Water Project, Comment Period Ends: 09/09/2024, Contact: Tim Warner 916-539-9510

EIS No. 20240132, Final, NRC, VA, Site-Specific Environmental Impact Statement for Subsequent License Renewal North Anna Power Station Units 1 and 2 NUREG-1437 Supplement 7a, Second Renewal, Final Report, Review Period Ends: 08/26/2024, Contact: Ashley Waldron 301-415-7317

Dated: July 22, 2024.
Timothy Witman,
Acting Director, NEPA Compliance Division, Office of Federal Activities.

[FR Doc. 2024-16442 Filed 7-25-24; 8:45 am]

BILLING CODE 6560-50-P